DEPARTMENT OF ENERGY

Federal Energy Regulatory Commission

[Project No. 14431-000]

Coralville Energy, LLC; Notice of Preliminary Permit Application Accepted for Filing and Soliciting Comments, Motions To Intervene, and Competing Applications

On July 5, 2012, Coralville Energy, LLC filed an application for a preliminary permit under section 4(f) of the Federal Power Act proposing to study the feasibility of the Burlington Street Dam Hydroelectric Project No. 14431, to be located at the existing Burlington Street Dam on the Iowa River, near Iowa City in Johnson County, Iowa. The Burlington Street Dam is owned and operated by the University of Iowa.

A preliminary permit does not authorize the permit holder to perform any land-disturbing activities or otherwise enter upon lands or waters owned by others without the owners' express permission.

The proposed project would consist of: (1) The existing 291-foot-long by 14-foot-high concrete gravity dam; (2) a new 50-foot-long by 50-foot-wide by 50-foot-high powerhouse, containing two 0.75-megawatt (MW) vertical flume propeller-type turbine/generator units for a total capacity of 1.5 MW; (3) a new 2-foot-long by 40-foot-wide by 15-foot-high intake structure; (4) a new 400-foot-long, 12.7-kilovolt transmission line; and (5) appurtenant facilities. The project would have an estimated annual generation of 8,542 megawatt-hours.

Applicant Contact: Mr. Mark Boumansour, 1035 Pearl Street, 4th Floor, Boulder, CO 80302; (720) 295-3317.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-14431) in the docket number field to access the document. For assistance, contact FERC Online Support.

Dated: August 7, 2012.
Kimberly D. Bose,
Secretary.

[FR Doc. 2012-19783 Filed 8-10-12; 8:45 am]

BILLING CODE 6717-01-P